DEPARTMENT OF HEALTH AND HUMAN SERVICES

Health Resources and Services Administration

Meeting of the National Advisory Council on the National Health Service Corps

AGENCY: Health Resources and Services Administration (HRSA), Department of Health and Human Services (HHS).

ACTION: Notice.

SUMMARY: In accordance with the Federal Advisory Committee Act, this notice announces that the Secretary's National Advisory Council on the National Health Service Corps (NACNHSC) will hold public meetings for the 2020 calendar year (CY). Information about NACNHSC, agendas, and materials for these meetings can be found on the NACNHSC website at: https://nhsc.hrsa.gov/nac/meetings.html.

DATES:

• January 14, 2020, 9:00 a.m.-5:00 p.m.; January 15, 2020, 9:00 a.m.-2:00 p.m. Eastern Time (E.T.)—In-Person and Webinar;

• March 10, 2020, 9:00 a.m.-5:00 p.m.; March 11, 2020, 9:00 a.m.-2:00 p.m. E.T.—Webinar;

• June 16, 2020, 9:00 a.m.-5:00 p.m.; June 17, 2020, 9:00 a.m.-2:00 p.m. E.T.—In-Person and Webinar;

• November 5, 2020, 9:00 a.m.-5:00 p.m.; November 6, 2020, 9:00 a.m.-2:00 p.m. E.T.—In-Person and Webinar.

ADDRESSES: Meetings may be held in-person, by teleconference, and/or Adobe Connect webinar. In-person NACNHSC meetings will be held at 5600 Fishers Lane, Rockville, Maryland 20857. Instructions for joining the meetings either in person or remotely will be posted on the NACNHSC website 30 business days before the date of the meeting. For meeting information updates, go to the NACNHSC website meeting page at https://nhsc.hrsa.gov/nac/meetings.html.

FOR FURTHER INFORMATION CONTACT: Diane Fabiyi-King, Designated Federal Official (DFO), Division of National Health Service Corps, HRSA. Address: 5600 Fishers Lane, Room 14N110, Rockville, Maryland 20857; phone (301) 443-3609; or BHWNACNHSC@hrsa.gov.

SUPPLEMENTARY INFORMATION: The NACNHSC consults, advises, and makes annual recommendations to the Secretary of HHS and the Administrator of HRSA with respect to their NHSC related responsibilities under Subpart II, Part D of Title III of the Public Health Service Act (42 U.S.C. 254d-254k), as amended, to designate areas of the United States with health professional shortages and assign National Health Service Corps clinicians to improve the delivery of health services in health professional shortage areas. Since priorities dictate meeting times, be advised that times and agenda items are subject to change. CY 2020 meetings and agenda items may include, but are not limited to, the identification of NHSC priorities for future program issues and concerns; proposed policy changes by using the varying levels of expertise represented on NACNHSC to advise on specific program areas; updates from clinician workforce experts; and education and practice improvement in the training development of primary care clinicians. More general items may include presentations and discussions on the current and emerging needs of health workforce; public health priorities; healthcare access and evaluation; NHSC-approved sites; HRSA priorities and other federal health workforce and education programs that impact the NHSC.

Refer to the NACNHSC website listed above for all current and updated information concerning the CY 2020 NACNHSC meetings, including draft agendas and meeting materials that will be posted 14 calendar days before each meeting. Members of the public will have the opportunity to provide comments. Public participants may submit written statements in advance of the scheduled meeting(s). Oral comments will be honored in the order they are requested and may be limited as time allows.

Requests to submit a written statement or make oral comments to the NACNHSC should be sent to Diane Fabiyi-King via email at BHWNACNHSC@hrsa.gov at least 5 business days before the meeting date(s). Individuals who need special assistance or another reasonable accommodation should notify Diane Fabiyi-King using the contact information listed above at least 10 business days before the meeting(s) they wish to attend. Since all in-person meetings occur in a federal government building, attendees must go through a security check to enter the building. Non-U.S. Citizen attendees must notify HRSA of their planned attendance at least 20 business days prior to the meeting in order to facilitate their entry into the building. All attendees are required to present government-issued identification prior to entry.

Maria G. Button,
Director, Executive Secretariat.

[FR Doc. 2019-27357 Filed 12-18-19; 8:45 am]

BILLING CODE 4165-15-P